DEPARTMENT OF TRANSPORTATION

Federal Aviation Administration

14 CFR Parts 11, 13, 17, 36, 91, 139, 150, 193, 404, and 406

Change in Address for the Department of Transportation (DOT) and DOT Migration to the Federal Docket Management System (FDMS)

AGENCY: Federal Aviation Administration (FAA), DOT.

ACTION: Final rule; technical amendment.

SUMMARY: This action updates the Department of Transportation (DOT) addresses, changes references from the Docket Management System to the Federal Docket Management System (FDMS), and removes obsolete information listed in FAA regulations as a result of DOT's relocation, migration to the Federal electronic docket system, and closure of the DOT Branch Library. The intended effect of this action is to ensure that the regulated public is informed of address changes, electronic docket changes, and other administrative matters.

DATES: Effective December 5, 2007.

FOR FURTHER INFORMATION CONTACT: Barbara Dinkins, Office of Rulemaking, ARM-210, Federal Aviation Administration, 800 Independence Avenue, SW., Washington, DC 20591; telephone: (202-493-4657); facsimile: (202-267-5075); e-mail: barbara.b.dinkins@faa.gov.

SUPPLEMENTARY INFORMATION: This technical amendment addresses the following administrative changes—

(1) The Department of Transportation (DOT) relocation of its entire headquarters to 1200 New Jersey Avenue, SE., Washington, DC;

(2) The DOT migration to the governmentwide electronic Federal Document Management System (FDMS) which replaces the old DOT Docket Management System (DMS); and

(3) Closure of DOT Transportation Branch Library.

As a result of these changes, the FAA is amending 14 CFR parts 11, 13, 17, 36, 91, 139, 150, 193, 404, and 406.

Because these actions are merely administrative in nature and removes outdated references, the FAA finds that notice and public procedure under 5 U.S.C. 553(b) is unnecessary. For the same reason, the FAA finds that good cause exists under 5 U.S.C. 5553(d) for making this amendment effective upon publication.

List of Subjects

14 CFR Part 11

Administrative practice and procedure, Reporting and recordkeeping requirements.

14 CFR Part 13

Administrative practice and procedure, Air transportation, Aviation safety, Hazardous materials transportation, Investigations, Law enforcement, Penalties.

14 CFR Part 17

Administrative practice and procedure, Authority delegations (Government agencies), Government contracts.

14 CFR Part 36

Agriculture, Aircraft, Noise control.

14 CFR Part 91

Afghanistan, Agriculture, Air traffic control, Aircraft, Airmen, Airports, Aviation Safety, Canada, Cuba, Ethiopia, Freight, Mexico, Noise control, Political candidates, Reporting and recordkeeping requirements, Yugoslavia.

14 CFR Part 139

Air carriers, Airports, Aviation safety, Reporting and recordkeeping requirements.

14 CFR Part 150

Airports, Noise control.

14 CFR Part 193

Air transportation, Aviation safety, Reporting and recordkeeping requirements, Security measures.

14 CFR Part 404

Administrative practice and procedure, Space transportation and exploration.

14 CFR Part 406

Administrative practice and procedure, Confidential business information, Investigations, Penalties, Space transportation and exploration.

The Amendments

In consideration of the foregoing, the Federal Aviation Administration amends 14 CFR chapters I and III as follows:

PART 11—GENERAL RULEMAKING PROCEDURES

1. The authority citation for part 11 continues to read as follows:

Authority: 49 U.S.C. 106(g), 40113, 44701.

2. Amend § 11.25 by revising the last sentence in paragraph (a) introductory text to read as follows:

§ 11.25 How does FAA issue rules?

(a) * * * We also make all documents available to the public by posting them in the Federal Docket Management System at http://www.regulations.gov.

* * * * *

3. Amend § 11.33 by revising paragraph (a) to read as follows:

§ 11.33 How can I track FAA's rulemaking activities?

* * * * *

(a) Docket ID. We assign a docket ID to each rulemaking document proceeding. Each rulemaking document FAA issues in a particular rulemaking proceeding, as well as public comments on the proceeding, will display the same docket ID. This ID allows you to search the Federal Docket Management System (FDMS) for information on most rulemaking proceedings. You can view and copy docket materials during regular business hours at the U.S. Department of Transportation, Docket Operations, West Building Ground Floor, Room W12-140, 1200 New Jersey Avenue, SE., Washington, DC 20590. Or you can view and download docketed materials through the Internet at http://www.regulations.gov. If you can't find the material in the electronic docket, contact the person listed under FOR FURTHER INFORMATION CONTACT in the document you are interested in.

* * * * *

4. Revise § 11.35 section heading to read as follows:

§ 11.35 Does FAA include sensitive security information and proprietary information in the Federal Docket Management System (FDMS)?

* * * * *

5. Amend § 11.45 by revising paragraph (a) introductory text, (a)(1), (a)(2), and (c) to read as follows:

§ 11.45 Where and when do I file my comments?

(a) Send your comments to the location specified in the rulemaking document on which you are commenting. If you are asked to send your comments to the Federal Document Management System, you may send them in either of the following ways:

(1) By mail to: U.S. Department of Transportation, Docket Operations, West Building Ground Floor, Room W12-140, 1200 New Jersey Avenue, SE., Washington, DC 20590.

(2) Through the Internet to http://www.regulations.gov.

* * * * *

(c) We may reject your paper or electronic comments if they are frivolous, abusive, or repetitious. We may reject comments you file electronically if you do not follow the electronic filing instructions at the Federal Docket Management System Web site.

6. Amend § 11.63 by revising paragraphs (a)(2), (b)(1), and (b)(2) to read as follows:

§ 11.63 How and to whom do I submit my petition for rulemaking or petition for exemption?

(a) * * *

(2) To the U.S. Department of Transportation, Docket Operations, West Building Ground Floor, Room W12-140, 1200 New Jersey Avenue, SE., Washington, DC 20590 or to this Internet address: http://www.regulations.gov.

(b) * * *

(1) By paper submission, send the original signed copy of your petition for rulemaking or exemption to this address: U.S. Department of Transportation, Docket Operations, West Building Ground Floor, Room W12-140, 1200 New Jersey Avenue, SE., Washington, DC 20590.

(2) By electronic submission, submit your petition for rulemaking or exemption to FAA through the Internet using the Federal Document Management System Web site at http://www.regulations.gov.

* * * * *

PART 13—INVESTIGATIVE AND ENFORCEMENT PROCEDURES

7. The authority citation for part 13 continues to read as follows:

Authority: 18 U.S.C. 6002; 28 U.S.C. 2461 (note); 49 U.S.C. 106(g), 5121-5124, 40113-40114, 44103-44106, 44702-44703, 44709-44710, 44713, 46101-46110, 46301-46316, 46318, 46501-46502, 46504-46507, 47106, 47111, 47122, 47306, 47531-47532; 49 CFR 1.47.

8. Amend § 13.210 by revising paragraph (e)(1) to read as follows:

§ 13.210 Filing of documents.

* * * * *

(e) Internet accessibility of documents filed in the Hearing Docket. (1) Unless protected from public disclosure by an order of the ALJ under § 13.226, all documents filed in the Hearing Docket are accessible through the Federal Docket Management System (FDMS): http://www.regulations.gov. To access a particular case file, use the FDMS number assigned to the case.

* * * * *

9. Amend § 13.230 by revising paragraph (b) to read as follows:

§ 13.230 Record.

* * * * *

(b) Examination and copying of record. Any person may examine the record at the Hearing Docket, Federal Aviation Administration, 600 Independence Avenue, SW., Wilbur Wright Building—Room 2014, Washington, DC 20591. Documents may also be examined and copied at the U.S. Department of Transportation, Docket Operations, West Building Ground Floor, Room W12-140, 1200 New Jersey Avenue, SE., Washington, DC 20590. Any person may have a copy of the record after payment of reasonable costs to copy the record.

PART 17—PROCEDURES FOR PROTESTS AND CONTRACTS DISPUTES

10. The authority citation for part 17 continues to read as follows:

Authority: 5 U.S.C. 570-581, 49 U.S.C. 106(f)(2), 40110, 40111, 40112, 46102, 46014, 46105, 46109, and 46110.

11. Amend § 17.15 by revising paragraph (b)(1) to read as follows:

§ 17.15 Filing a protest.

* * * * *

(b) * * *

(1) Office of Dispute Resolution for Acquisition, Federal Aviation Administration, AGC-70, 3rd Floor, 800 Independence Avenue, SW., Washington, DC 20591, telephone: (202) 267-3290, facsimile: (202) 267-3720; or

* * * * *

12. Amend § 17.25 by revising paragraph (b)(1) to read as follows:

§ 17.25 Filing a contract dispute.

* * * * *

(b) * * *

(1) Office of Dispute Resolution for Acquisition, Federal Aviation Administration, AGC-70, 3rd Floor, 800 Independence Avenue, SW., Washington, DC 20591, telephone: (202) 267-3290, facsimile: (202) 267-3720; or

* * * * *

13. Amend § 17.27 by revising paragraph (c)(1) to read as follows:

§ 17.27 Submission of joint or separate statements.

* * * * *

(c) * * *

(1) Office of Dispute Resolution for Acquisition, Federal Aviation Administration, AGC-70, 3rd Floor, 800 Independence Avenue, SW., Washington, DC 20591, telephone: (202) 267-3290, facsimile: (202) 267-3720; or

* * * * *

PART 36—NOISE STANDARDS: AIRCRAFT TYPE AND AIRWORTHINESS CERTIFICATION

14. The authority citation for part 36 continues to read as follows:

Authority: 42 U.S.C. 4321, et seq.; 49 U.S.C. 106(g), 40113, 44701-44702, 44704, 44715; sec. 305, Pub. L. 96-193, 94 Stat. 50, 57; E.O. 11514, 35 FR 4247, 3 CFR, 1966-1970 Comp., P. 902.

15. Amend § 36.6 by revising paragraph (e)(1) to read as follows, removing paragraph (e)(2), and redesignating paragraphs (e)(3) and (e)(4) as paragraphs (e)(2) and (e)(3) respectively:

§ 36.6 Incorporation by reference.

* * * * *

(e) * * *

(1) U.S. Department of Transportation, Docket Operations, West Building Ground Floor, Room W12-140, 1200 New Jersey Avenue, SE., Washington, DC 20590.

* * * * *

PART 91—GENERAL OPERATING AND FLIGHT RULES

16. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 Stat. 1180).

17. Amend § 91.851 by revising the definition of Chapter 4 noise level to read as follows:

§ 91.851 Definitions.

* * * * *

Chapter 4 noise level means a noise level at or below the maximum noise level prescribed in Chapter 4, Paragraph 4.4, Maximum Noise Levels, of the International Civil Aviation Organization (ICAO) Annex 16, Volume I, Amendment 7, effective March 21, 2002. The Director of the Federal Register in accordance with 5 U.S.C. 552(a) and 1 CFR part 51 approved the incorporation by reference of this document, which can be obtained from the International Civil Aviation Organization (ICAO), Document Sales Unit, 999 University Street, Montreal, Quebec H3C 5H7, Canada. Also, you may obtain documents on the Internet at http://www.ICAO.int/eshop/index.cfm. Copies may be reviewed at the U.S. Department of Transportation, Docket Operations, West Building Ground Floor, Room W12-140, 1200 New Jersey Avenue, SE., Washington, DC 20590 or at the National Archives and Records Administration (NARA). For information on the availability of this material at NARA, call 202-741-6030, or go to: http://www.archives.gov/federal_register/code_of_federal_regulations/ibr_locations.html.

* * * * *

PART 139—CERTIFICATION OF AIRPORTS

18. The authority citation for part 139 continues to read as follows:

Authority: 49 U.S.C. 106(g), 40113, 44701-44706, 44709, 44719.

19. Amend § 139.111 by revising paragraph (c)(2) to read as follows:

§ 139.111 Exemptions.

* * * * *

(c) * * *

(2) Federal Docket Management System, as specified under 14 CFR part 11.

PART 150—AIRPORT NOISE COMPATIBILITY PLANNING

20. The authority citation for part 150 continues to read as follows:

Authority: 49 U.S.C. 106(g), 40113, 44715, 47101, 47501-47504.

§ 150.13 [Amended]

21. Amend § 150.13 by removing paragraph (e)(2) and redesignating paragraphs (e)(3) and (e)(4) as (e)(2) and (e)(3), respectively.

PART 193—PROTECTION OF VOLUNTARILY SUBMITTED INFORMATION

22. The authority citation for part 193 continues to read as follows:

Authority: 49 U.S.C. 106(g), 40113, 40123.

23. Amend § 193.11 by revising the first sentence in paragraph (a) to read as follows:

§ 193.11 What is the notice procedure?

* * * * *

(a) Application. You may apply to have information designated as protected under this part by submitting an application addressed to the U.S. Department of Transportation, Docket Operations, West Building Ground Floor, Room W12-140, 1200 New Jersey Avenue, SE., Washington, DC 20590 for paper submissions, and the Federal Docket Management System (FDMS) Web page at http://www.regulations.gov for electronic submissions.* * *

* * * * *

PART 404—REGULATIONS AND LICENSING REQUIREMENTS

24. The authority citation for part 404 continues to read as follows:

Authority: 49 U.S.C. 70101-70121.

25. Amend § 404.3 by revising paragraph (b)(1)(ii) to read as follows:

§ 404.3 Filing of petitions to the Associate Administrator.

* * * * *

(b) * * *

(ii) Be submitted in duplicate to the U.S. Department of Transportation, Docket Operations, West Building Ground Floor, Room W12-140, 1200 New Jersey Avenue, SE., Washington, DC 20590;

* * * * *

PART 406—INVESTIGATIONS, ENFORCEMENT, AND ADMINISTRATIVE REVIEW

26. The authority citation for part 406 continues to read as follows:

Authority: 49 U.S.C. 70101-70121.

27. Amend § 406.9 by revising paragraph (g)(1) to read as follows:

§ 406.9 Civil penalties.

* * * * *

(g) * * *

(1) The respondent must file a written request for hearing with the Federal Docket Management System (U.S. Department of Transportation, Docket Operations, West Building Ground Floor, Room W12-140, 1200 New Jersey Avenue, SE., Washington, DC 20590) and must serve a copy of the request on the agency attorney. Sections 406.113 and 406.115 state how filing and service must be done.

* * * * *

28. Amend § 406.109 by revising paragraphs (b)(1), (b)(2), and (b)(3) to read as follows:

§ 406.109 Administrative law judges—powers and limitations.

* * * * *

(b) * * *

(1) The administrative law judge must file with the FDMS, or instruct the party to file with the FDMS, a copy of each document that is submitted to the administrative law judge that has not bee filed with FDMS, except the portions of those documents that contain confidential information.

(2) The administrative law judge must file with the FDMS a copy of each ruling and order issued by the administrative law judge, except those portions that contain confidential information.

(3) The administrative law judge must file with the FDMS, or instruct the court reporter to file with the FDMS, a copy of each transcript and exhibit, except those portions that contain confidential information.

* * * * *

29. Amend § 406.113 by revising paragraphs (a), (b), (c), (d) introductory text, (d)(1), (d)(2), (e), (f)(1), (f)(2), and (f)(3) to read as follows:

§ 406.113 Filing documents with the Federal Docket Management System (FDMS) and sending documents to the administrative law judge and Assistant Chief Counsel for Litigation.

(a) The Federal Docket Management System (FDMS). (1) Documents filed in a civil penalty adjudication are kept in the Federal Docket Management System (FDMS), except for documents that contain confidential information in accordance with § 406.117. The FDMS is an electronic docket. Documents that are filed are scanned into the electronic docket and an index is made of all documents that have been filed so that any person may view the index and documents as provided in paragraph (f) of this section.

(2) A party is not required to file written interrogatories and responses, requests for production of documents or tangible items and responses, and requests for admission and responses with the Federal Docket Management System or submit them to administrative law judge, except as provided in § 406.143.

(b) Method of filing. A person filing a document must mail or personally deliver the signed original and one copy of each document to the FDMS at the U.S. Department of Transportation, Docket Operations, West Building Ground Floor, Room W12-140, 1200 New Jersey Avenue, SE., Washington, DC 20590. A person must serve a copy of each document on each party in accordance with § 406.115.

(c) Date of filing. The date of filing is the date of personal delivery, or if mailed, the mailing date shown on any certificate of service, the date shown on the postmark if there is no certificate of service, or other mailing data shown by other evidence if there is no certificate of service or postmark. The date shown in the FDMS index is not necessarily the date of service. It is the date the FDMS received the document.

(d) Form. FDMS scans the document into its electronic docket. To ensure that FDMS can scan the document and correctly identify it in the index, each person filing a document must comply with the following:

(1) Each document must be legible. It may be handwritten, typewritten, or printed from a computer.

(2) Each document must have a caption on its first page, clearly visible, with the following information:

(i) “FAA Space Adjudication.”

(ii) Case name, such as “In the matter of X Corporation.”

(iii) FAA Case Number and FDMS docket number, if assigned.

(iv) Name of the document being filed, including the party filing the document, such as “Respondent's Motion to Dismiss.”

(v) “Confidential information filed with administrative law judge” or “Confidential information filed with Assistant Chief Counsel for Litigation” if the party is filing confidential information under § 406.117.

* * * * *

(e) Sending documents to the administrative law judge or Assistant Chief Counsel for Litigation. Sending the document directly to the administrative law judge or to the Assistant Chief Counsel for Litigation is not a substitute for filing the original with the FDMS, except for confidential information under § 406.117.

(f) * * *

(1) During regular business hours at the U.S. Department of Transportation, Docket Operations, West Building Ground Floor, Room W12-140, 1200 New Jersey Avenue, SE., Washington, DC 20590.

(2) Through the Internet at http://www.regulations.gov.

(3) By requesting it from the FDMS and paying reasonable costs.

30. Amend § 406.115 by revising paragraphs (a), (c), and (d) to read as follows:

§ 406.115 Serving documents on other parties.

(a) Service required. A person must serve on each other party at the time of filing a copy of any document filed with the Federal Docket Management System. Service on a party's attorney or representative of record is adequate service on the party.

* * * * *

(c) Certificate of service. A person may attach a certificate of service to a document filed with the FDMS. Any certificate of service must include a statement, dated and signed by the individual filing the document, that the document was served on each party, the method of service, and the date of service.

(d) Date of service. The date of service is the date of personal delivery; or if mailed, the mailing date shown on the certificate of service, the date shown on the postmark if there is no certificate of service, or other mailing date shown by other evidence if there is no certificate of service or postmark. The date shown in the FDMS index is not necessarily the date of service. It is the date the FDMS received the document.

* * * * *

31. Amend § 406.121 by revising paragraphs (a) and (b) to read as follows:

§ 406.121 Extension of time.

* * * * *

(a) Extension of time by agreement of the parties. The parties may agree to extend for a reasonable period of time for filing a document under this subpart with the agreement of the administrative law judge. The party seeking the extension of time must submit a draft order to the administrative law judge for signature, file it with the Federal Docket Management System, and serve it on each party.

(b) Motion for extension of time. If the parties do not agree to an extension of time for filing a document, a party desiring an extension may file with the Federal Docket Management System and serve a written motion for an extension of time not later than 7 days before the document is due unless good cause for the late filing is shown. The administrative law judge may grant the extension of time if good cause for the extension is shown.

* * * * *

32. Amend § 406.127 by revising paragraphs (a)(1) and (b)(3) to read as follows:

§ 406.127 Complaint and answer in civil penalty adjudications.

(a) Complaint—(1) Filing. The complainant must file the original and one copy of the complaint with the Federal Docket Management System, or may file a written motion pursuant to § 406.141(f)(1) instead of filling a complaint, not later than 20 days after receipt by the complainant of a request for hearing. The complainant should suggest a location for the hearing when filing the complaint.

* * * * *

(b) * * *

(3) Filing and service. A respondent must file the answer with the Federal Docket Management System and serve a copy of the answer on the agency attorney who filed the complaint.

* * * * *

33. Amend § 406.133 by revising paragraph (a) introductory text to read as follows:

§ 406.133 Amendments of pleadings.

(a) Time. A party must file with the Federal Docket Management System and serve on each other party any amendment to a complaint or an answer as follows:

* * * * *

34. Amend § 406.137 by revising paragraph (a) to read as follows:

§ 406.137 Intervention.

(a) A person may file with the Federal Docket Management System and serve on each other party a motion for leave to intervene as party in an adjudication. Except for good cause shown, a motion for leave to intervene must be filed not later than 10 days before the hearing.

* * * * *

35. Amend § 406.139 by revising paragraphs (b) introductory text and (d) to read as follows:

§ 406.139 Joint procedural or discovery schedule.

* * * * *

(b) Form and content of schedule. If the parties agree to a joint procedural or discovery schedule, one of the parties must file with the Federal Docket Management System and serve the joint schedule, setting forth the dates to which the parties have agreed. One of the parties must draft an order establishing a joint schedule for the administrative law judge.

* * * * *

(d) Order establishing joint schedule. The administrative law judge must approve the joint schedule filed by the parties by signing the joint schedule and filing it with the Federal Docket Management System.

* * * * *

36. Amend § 406.141 by revising paragraph (c) to read as follows:

§ 406.141 Motions.

* * * * *

(c) Form and time. Except for oral motions heard on the record, a motion made prior to the hearing must be in writing. Unless otherwise agreed by the parties or for good cause shown, a party must file any prehearing motion with the Federal Docket Management System and serve each other party not later than 30 days before the hearing.

* * * * *

37. Amend § 406.143 by revising the second sentence in paragraph (b) and by revising the first sentence in paragraph (j)(3) to read as follows:

§ 406.143 Discovery.

* * * * *

(b) * * * A party is not required to file written interrogatories and responses, requests for production of documents or tangible items and responses, and requests for admission and responses with the Federal Docket Management System or submit any of them to the administrative law judge. * * *

* * * * *

(j) * * *

(3) Notice of deposition. A party must serve a notice of deposition, stating the time and place of the deposition and the name and address of each person to be examined, on the person to be deposed, must submit the notice to the administrative law judge, and must file the notice with the Federal Docket Management System, and must serve the notice on each party, not later than 7 days before the deposition. * * *

* * * * *

38. Amend § 406.173 by revising the first and second sentence in paragraph (d) to read as follows:

§ 406.173 Interlocutory appeals.

* * * * *

(d) Procedure. A party must file with the Federal Docket Management System and serve each other party a notice of interlocutory appeal, with supporting documents, not later than 10 days after the administrative law judge's decision forming the basis of an interlocutory appeal of right or not later than 10 days after the administrative law judge's decision granting an interlocutory appeal for cause. A party must file with the Federal Docket Management System a reply brief, if any, and serve a copy of the reply brief on each party, not later than 10 days after service of the appeal brief. * * *

* * * * *

39. Amend § 406.175 by revising paragraphs (a), (d) introductory text, and (e) introductory text, by revising the third sentence in paragraph (f), and by revising paragraph (g) to read as follows:

§ 406.175 Appeal from initial decision.

(a) Notice of appeal. A party may appeal the initial decision, and any decision not previously appealed pursuant to § 406.173, by filing with the Federal Docket Management System and serving on each party a notice of appeal. A party must file the notice of appeal not later than 10 days after entry of the oral initial decision on the record or service of the written initial decision on the parties.

* * * * *

(d) Appeal briefs. A party must file the appeal brief with the Federal Docket Management System and serve each party.

* * * * *

(e) Reply brief. Unless otherwise agreed by the parties, any party may file a reply brief with the Federal Docket Management System and serve on each other party not later than 35 days after the appeal brief has been served on that party. If the party relies on evidence contained in the record for the reply, the party must specifically refer to the pertinent evidence contained in the record in the reply brief.

* * * * *

(f) * * * A party may file with the Federal Docket Management System a motion for permission to file an additional brief and must serve a copy of the motion on each other party. * * *

(g) Number of copies. A party must file the original brief and two copies of the brief with the Federal Docket Management System and serve one copy on each other party.

* * * * *

40. Amend § 406.177 by revising the second sentence in paragraph (a) to read as follows:

§ 406.177 Petition to reconsider or modify a final decision and order of the FAA decisionmaker on appeal.

(a) * * * A party must file a petition to reconsider or modify with the Federal Docket Management System not later than 30 days after service of the FAA decisionmaker's final decision and order on appeal and must serve a copy of the petition on each party. * * *

* * * * *

Issued in Washington, DC on November 28, 2007.
Pamela Hamilton-Powell,
Director, Office of Rulemaking, Aviation Safety.

[FR Doc. E7-23422 Filed 12-4-07; 8:45 am]

BILLING CODE 4910-13-P